FEDERAL ELECTION COMMISSION

Sunshine Act Meeting

FEDERAL REGISTER CITATION NOTICE OF PREVIOUS ANNOUNCEMENT: 83 FR 8870.

PREVIOUSLY ANNOUNCED TIME AND DATE OF THE MEETING: Tuesday, March 6, 2018 at 10:00 a.m.

CHANGES IN THE MEETING: This meeting also discussed:

Matters relating to internal personnel decisions, or internal rules and practices.

* * * * *

CONTACT FOR MORE INFORMATION: Judith Ingram, Press Officer, Telephone: (202) 694-1220.

Laura E. Sinram,
Deputy Secretary of the Commission.

[FR Doc. 2018-04847 Filed 3-7-18; 11:15 am]

BILLING CODE 6715-01-P